DEPARTMENT OF COMMERCE

Technology Administration

[Docket No. 010626163-1163-01]

Notice, Request for Comments on Existing Public and Private High-Tech Workforce Training Programs in the United States

AGENCY: Technology Administration, U.S. Department of Commerce.

ACTION: Request for comments on existing public and private high-tech workforce training programs in the United States for Congressionally-mandated study and report to the Congress by the Secretary of Commerce.

SUMMARY: On behalf of the Secretary of Commerce, the Technology Administration (TA) invites interested parties to comment on existing public and private high-tech workforce training programs in the United States. Sections 115(a) and 115(b) of the American Competitiveness in the Twenty-first Century Act of 2000 (Public Law 106-313) require the Secretary of Commerce to conduct a study and issue a report on this subject. In connection with this study and report, this Federal Register notice is intended to solicit comments and reply comments from the public in paper or electronic form. All written comments submitted in response to this notice will be posted on the TA website (www.ta.doc.gov/ittraining), and may be used in a report to Congress.

DATES: Interested parties are invited to submit comments no later than November 9, 2001.

ADDRESSES: Comments may be mailed to Carol Ann Meares, Office Technology Policy, Technology Administration, Room 4823 HCHB, 1401 Constitution Ave., NW., Washington, DC 20230. Paper submissions should include an electronic copy of the comments on a diskette in ASCII, WordPerfect (please specify version) or Microsoft Word (please specify version) format. Diskettes should be labeled with the name and organizational affiliation of the filer, and the name and version of the word processing program used to create the document.

In the alternative, comments may be submitted electronically to the following electronic mail address: techtraining@ta.doc.gov. Comments submitted as attachments to electronic mail should be submitted in one or more of the formats specified above.

Another alternative method for providing comment is an Internet-based form that can be completed and submitted online. The URL for this notice is www.ta.doc.gov/ittraining/form.

FOR FURTHER INFORMATION CONTACT: Carol Ann Meares, Office Technology Policy, telephone: (202) 482-0940; or electronic mail: cmeares@ta.doc.gov. Media inquiries should be directed to the Office of Public Affairs, Technology Administration, at (202) 482-8321.

SUPPLEMENTARY INFORMATION:

I. Background

The development and application of new information technologies across virtually every segment of the American economy has resulted in rapid, sustained growth in demand for highly skilled information technology (IT) workers. Accordingly, between 1983 and 1998, the number of high-skilled IT workers increased from 719,000 to 2,084,000—an increase of 190 percent, more than six times the overall U.S. job growth rate during this period.

Rapid growth is expected to continue into the foreseeable future. The Department of Labor Bureau of Labor Statistics' (BLS) most recent ten-year employment projections indicate that the number of core IT workers—computer scientists, computer programmers, computer engineers, systems analysts, computer support specialists, and database administrators—will rise from 2.2 million in 1998 to 3.9 million in 2008. Another 300,000 will be needed to replace those leaving the field during this period. As a result, BLS projects more than 2 million new core IT workers will be needed during this ten-year period. In addition, the five fastest growing occupations in the U.S. economy during this period are all core IT occupations—database administrators, 77.2 percent; systems analysts, 93.6 percent; computer support specialists, 102.3 percent; computer engineers, 107.9 percent; and “all other computer scientists,” 117.5 percent. These growth rates compare to a projected increase of 14.4 percent for all occupations during this period.

The jobs represented by these broad occupational classifications are varied, complex and specialized, as are the knowledge, skills and experience required to perform them. There is no single path to prepare a worker for a core IT occupation. Most get their education from four-year colleges and universities. Other paths include two-year degree-granting community colleges, special university/community programs designed to upgrade the skills of the current workforce, a growing number of private sector certification programs, in-house company training, short courses and self-study.

BLS's Current Population Survey indicates that two-thirds of the current core IT workforce have four-year college degrees, a quarter have less than a bachelor's degree but more than a high school diploma, and the balance have a high school diploma or less. In addition to formal education, many IT workers hold one or more technical certifications. Of those with four-year college degrees, 46 percent have IT degrees, minors or second majors; 86 percent have a degree in a science or engineering discipline.

This study and report will focus on the education and training paths and programs through which Americans prepare for these jobs and maintain the skills needed in an ever-changing information technology environment.

The Office of Technology Policy, an agency of the Commerce Department's Technology Administration, has conducted research and produced reports on the Nation's challenge in meeting the high U.S. demand for skilled IT workers. These reports can be downloaded for review at: http://www.ta.doc.gov/reports.htm

II. Statutory Language Requiring a Study and Report to Congress

The statutory language requiring the Secretary of Commerce to conduct a study and submit a report to Congress on existing public and private high-tech workforce training programs in the United States is found in Sections 115(a) and 115(b) of the American Competitiveness in the Twenty-First Century Act of 2000 (Public Law 106-313), and is set forth below:

Sec. 115(a) STUDY—The Secretary of Commerce shall conduct a review of existing public and private high-tech workforce training programs in the United States.

Sec. 115(b) REPORT—Not later than 18 months after the date of enactment of this Act, the Secretary of Commerce shall submit a report to Congress setting forth the findings of the study conducted under subsection (a).

III. Specific Questions

The Department seeks comment on the following specific questions. Parties need not address all questions, but are encouraged to respond to those about which they have particular knowledge or information.

A. Questions for Employers

Please provide some information about your company/organization to provide a context for your comments (e.g. type of business, georgraphic location, size of total workforce, size of IT workforce).

1. What types of IT workers does your company/organization employ (.e.g. development, application, support; occupational/technical skill type; entry-level, mid-level, senior)?

2. In making IT workforce-hiring decisions, what priority do you place on:

Graduate degrees?

—Four-year IT degree (e.g. computer science, computer engineering, management information systems)?

—Four-year technical degree (e.g. math, science, engineering)?

—Four-year business degree?

—Four-year liberal arts degree?

—Two-year associates degree?

—Technical Certification(s)? Which certifications does your company rely on?

—General technical experience?

—Experience with specific applications, operating systems, programming languages, hardware, etc.?

—Industry-specific Experience?

3. What types of education/training programs (e.g. certification programs, private IT schools, short courses, seminars, community colleges, universities) provide newly hired IT workers with the skills needed?

4. What types of education/training programs (e.g. certification programs, private IT schools, short courses, seminars, community colleges, universities) provide current employees with the skills needed to be successful in their jobs, career progression, and to adapt effectively to changing technology?

5. Does your company/organization undertake efforts to keep the skills of your IT workforce current? What types of education/training programs (e.g. certification programs, private IT schools, short courses, in-house training, contract trainers, vendor training, seminars, community colleges, universities) does your company/organization use to provide current IT employees with the skills they need? What are the strengths and weaknesses of these programs?

6. What barriers inhibit investment in the education/training of current IT employees (e.g., cost, time from the job, fear of losing employee, uncertainty about future skill needs)?

7. Is your company/organization engaged in any partnerships (with industry, government, academia, training providers, etc.) to develop IT workers? What are the strengths and weaknesses of these programs?

8. What factors are considered in deciding whether to fill an IT position (or class of IT positions) by providing training and education to upgrade the knowledge and skills of current employee(s) (“making”), or by hiring employees who already have the skills from the open labor market (“buying”)? What are the characteristics (e.g., skill level, experience requirements, area of expertise) of IT position that your company/organization fills by making? By buying?

9. How important are “soft skills” (e.g., oral and written communications skills, teamwork, problem solving) for an IT worker? Which “soft skills” are most important?

10. How quickly do the IT skills needed by your company/organization change? How are these changing IT skills requirements met? What impact do changing skills requirements have on your IT workforce?

11. Are you aware of or been involved in any U.S. Department of Labor-sponsored or support IT workforce training programs in your area? Have you hired or considered for employment any employees trained through U.S. Department of Labor-sponsored or supported IT training workforce programs? If so, what is your assessment of the value of the training of these employees received? How well did the skills of the graduates of these programs meet your company's IT skill needs?

12. Does your company/organization train non-IT employees for IT jobs in the company/organization? If so, what types of education and training programs are provided for this purpose?

13. For IT managers: When announcing a job opening, do the education/skills/experience articulated by your company/organization as required for specific IT positions accurately reflect the education/skills/experience required to be successful in the positions?

14. For human resource officials: Do the education/skills/experience articulated by your line managers as required for specific IT positions accurately reflect the education/skills/experience required to be successful in the positions?

15. What types of credentials would substitute for technical job experience for entry-level jobs? For more advanced jobs?

16. Does your company/organization, either directly or through another organization, provide information regarding your IT skills needs to local educational and training providers to help them tailor their curricula/instruction to your needs?

17. Aside from the education/training investment in your current IT employees, what types of investments does your company/organization make in developing the U.S. IT workforce (e.g. financial contributions, scholarships, internships, work study, hardware/software donations, employee mentoring of students, adopt-a-school, other)?

18. Of the IT education/training programs that you have experience with, which do you consider effective?

B. Questions for IT Workers

1. What types of education and training programs (e.g. certification programs, private IT schools, short courses, seminars, community colleges, four-year colleges, graduate schools) provide the most immediately marketable skills for obtaining an IT job?

2. What types of education and training programs provide the most valuable IT or other skills for success in the long run in the IT field? Career progression in IT? Ability to adapt to changing information technology?

3. What are the strengths and weaknesses of the IT education/training program(s) you attended in terms of their providing valuable knowledge and skills for the IT job market?

4. What barriers do current/potential IT workers face in obtaining IT education and training (e.g., cost, availability, scheduling, meeting prerequisites)?

5. In your experience, what types of programs provide the highest quality of IT education/training? Best value? Most effective?

6. What barriers have you faced in obtaining IT jobs (e.g., lack of education, certification, experience, specificity of skill requirements)?

7. Have your employers supported your efforts to obtain IT education/training/skills upgrading? If so, how (e.g., paid for training, provided training on-site, provided time away from work to attend classes)? What barriers did you face in getting your employer(s) support?

8. How do you keep your skills up-to-date (programs, cost, time)?

9. How important is formal training versus experience gained on the job?

10. In your experience, do you believe that employers' stated requirements—in terms of education, skills, and experience—closely match the actual requirements of the jobs advertised?

11. Are you aware of any U.S. Department of Labor-sponsored or supported IT workforce training programs in your area? Have you participated in any U.S. Department of Labor-sponsored or supported IT workforce training programs? If so, what is your assessment of the value of the training provided by these programs?

C. Questions for Education/Training Providers

Please provide some information about your company/school/institution to provide a context for your comments (e.g., contract trainer, private IT school, community college, college, university; number of students; type of IT programs offered; duration, cost, type of client served).

1. In your IT education/training programs, is there any tension between providing fundamental knowledge and skills that are broadly applicable, and providing IT skills (perhaps proprietary) that will make your graduates immediately marketable? If so, how do you deal with the tension?

2. Are you finding that students in your programs arrive with the fundamental skills to be successful in IT careers? What are the characteristics of students who are most likely to succeed in your programs? What are the most significant barriers your students face in completing your programs? What are the most significant barriers your students face in finding employment after completing your program?

3. In an era of rapidly changing technology, how flexible is your institution in adapting its curricula to meet the changing technical skill needs of students and employers? Other changing needs of students and employers (e.g., soft skills, business skills, hands-on training, internships)? What are the barriers to adapting to these changing needs?

4. Does your institution provide placement services for your graduates? What level of success do your students have in securing IT employment after receiving training/education from your institution? What barriers to securing IT employment do your graduates report?

5. How do you develop connections between the program (what is taught) and employers' needs?

D. Questions for State/Local Government Agencies and Area/Regional Partnerships

Please provide some information about your agency/partnership to provide a context for your comments (e.g. type of institution, when established, phase of development, scope of activities).

1. Does your organization have a strategic plan for developing the IT workforce in your area or region? What are the elements of your plan?

2. Who is involved in your plan (e.g. government agencies, companies, education/training providers, workforce investment boards)?

3. Who do your programs target for training (entry level, career changers, disadvantaged groups, special communities, current IT workforce—both staying current (retooling) and getting ahead (upgrading))? What are the barriers to providing this training (aptitude, lack of knowledge/skill needed to participate in training, interest, lack of available workers, lack of time in students' lives, employer resistance)? How do you attract students/clients to your programs?

4. Approximately how many people have received training through your programs (please include the timeframe)?

5. Which institutions (governments agencies, IT companies, non-IT companies) are financially supporting this effort? Do employers participate in supporting this effort?

Which IT training providers (e.g. contract trainers, private IT schools, community colleges, universities) participate in your effort?

6. What types of training programs (certification, community college, 4-year colleges, graduate schools) do your students participate in under your programs?

7. With respect to those you are training for IT jobs, besides the technical IT training what other kinds of education, training and employment-related services are available through your program?

8. How successful have your programs been in placing students in IT jobs? What are the barriers your program participants face in getting IT jobs after completing their training?

9. What feedback have you received from employers on the strengths and weaknesses of your programs?

10. Does your state/jurisdiction offer incentives (tax, financial, other) to employer or employees for IT education and training? How effective have these incentives been?

Notwithstanding any other provision of the law, no person is required to respond to, nor shall any person be subject to penalty for failure to comply with, a collection of information subject to the Paperwork Reduction Act, unless that collection displays a currently valid OMB control number.

Dated: September 4, 2001.
Bruce Mehlman,
Assistant Secretary of Commerce for Technology Policy.

[FR Doc. 01-22633 Filed 9-7-01; 8:45 am]

BILLING CODE 3510-18-M